DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Conflict of Interest Disclosure for Nonfederal Government Individuals Who Are Candidates To Conduct Peer Reviews.

OMB Control Number: 0648-0567.

Form Number(s): NA.

Type of Request: Regular submission (renewal of a currently approved information collection).

Number of Respondents: 320.

Average Hours per Response: 30 minutes.

Burden Hours: 160.

Needs and Uses: The Office of Management and Budget's Final Information Quality Bulletin for Peer Review (“Peer Review Bulletin” or PRB) establishes minimum peer review standards for influential scientific information that Federal agencies intend to disseminate. The PRB also directs federal agencies to adopt or adapt the National Academy of Sciences (NAS) policy for evaluating conflicts of interest when selecting peer reviewers who are not Federal government employees (Federal employees are subject to Federal ethics requirements which address conflict of interest). For peer review purposes, the term “conflict of interest” means any financial or other interest which conflicts with the service of the individual because it could: (1) Significantly impair the individual's objectivity; or (2) create an unfair competitive advantage for any person or organization.

NOAA has adapted the NAS policy and developed three confidential conflict of interest disclosure forms which will be used to examine prospective reviewers' potential financial conflicts and other interests that could impair objectivity or create an unfair advantage. The forms are for peer reviewers of studies related to government regulation; peer reviewers of any other influential scientific information subject to the Peer Review Bulletin; and potential reviewers of scientific laboratories. The forms include questions about employment as well as investment and property interests, and research funding. All three forms also require the submission of a curriculum vitae.

Affected Public: Individuals or households.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: October 12, 2010.
Gwellnar Banks,
Management Analyst, Office of the Chief Information Officer.

[FR Doc. 2010-25986 Filed 10-14-10; 8:45 am]

BILLING CODE 3510-22-P